DEPARTMENT OF ENERGY

Federal Energy Regulatory Commission

[Docket Nos. CP06-385-000, CP89-1718-001]

Western Gas Resources, Inc., Western Gas Processors, Ltd.; Notice of Petition and Application

June 16, 2006.

Take notice that on May 26, 2006, Western Gas Resources, Inc. (WGR), successor to Western Gas Processors, Ltd., 1099 18th Street, Suite 1200, Denver, Colorado 80234, filed a petition for clarification and, in the alternative, applied for a limited jurisdiction certificate. In Docket No. CP89-1718-001, pursuant to Rules 204 and 207(a)(5) of the Commission's Rules of Practice and Procedure (section 385.204 and section 385.207, respectively) WGR petitions for clarification that WGR's Midkiff Line, located in Glascock, Midland, Reagan, and Upton Counties, Texas, retains its non-jurisdictional status. Alternatively in Docket No. CP06-385-000, pursuant to section 7(c) of the Natural Gas Act and section 157.7(a)(1) of the Commission's regulations, WGR requests issuance of a limited jurisdiction certificate authorizing WGR's continued operation of the Midkiff Line and waiving certain regulatory requirements, all as more fully set forth in the application which is on file with the Commission and open for public inspection. This filing is accessible online at http://www.ferc.gov, using the “library” link and is available for review in the Commission's Public Reference Room in Washington, DC. There is a “subscription” link on the Web site that enables subscribers to receive e-mail notification when a document is added to a subscribed docket(s). For assistance with any FERC Online service, please e-mail FERCOnlineSupport@ferc.gov, or call (866) 208-3676 (toll free). For TTY, call (202) 502-8659.

Any questions regarding this application should be directed to Christine Odell, Western Gas Resources, Inc., 1099 18th Street, Suite 1200, Denver, Colorado 80234; or e-mail: codell@westerngas.com, phone: (303) 452-5603, or fax: (303) 252-6240.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “defiling” link at http://www.ferc.gov. Persons unable to file electronically should submit original and 14 copies of the protest or intervention to the Federal Energy Regulatory Commission, 888 First Street, NE., Washington, DC 20426.

Motions to intervene, protests and comments may be filed electronically via the Internet in lieu of paper; see, 18 CFR 385.2001(a)(1)(iii) and the instructions on the Commission's Web site under the “e-Filing” link. The Commission strongly encourages electronic filings.

Comment Date: July 7, 2006.

Magalie R. Salas,
Secretary.

[FR Doc. E6-9895 Filed 6-21-06; 8:45 am]

BILLING CODE 6717-01-P